DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from February 17 to February 20, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: March 31, 2009.
J. Paul Loether,
Chief, National Register of Historic Places/National Historic Landmarks Program.

KEY: State, County, Property Name, Address/Boundary, City, Vicinity, Reference Number, Action, Date, Multiple Name

GEORGIA

Henry County

Lawrenceville Street Historic District, Lawrenceville St. roughly between the Henry County Courthouse square and GA 20, McDonough, 09000054, LISTED, 2/20/09

ILLINOIS

Cook County

Independence Park, 3945 N. Springfield Ave., Chicago, 09000023, LISTED, 2/18/09 (Chicago Park District MPS)

Inland Steel Building, 30 W. Monroe St., Chicago, 09000024, LISTED, 2/18/09

Spiegel Office Building, 1038 W. 35th St., Chicago, 09000025, LISTED, 2/18/09

Hamilton County

Cloud, Chalon Guard and Emma Blades, House, 300 S. Washington St., McLeansboro, 09000026, LISTED, 2/18/09

Kane County

Wing Park Golf Course, 1000 Wing St., Elgin, 09000027, LISTED, 2/18/09

La Salle County

Hegeler I, Julius W., House, 1306 Seventh St., LaSalle, 09000028, LISTED, 2/18/09

KANSAS

Kiowa County

Robinett, S.D., Building, 148 S. Main, Greensburg, 09000029, LISTED, 2/17/09

Meade County

Fowler Swimming Pool and Bathhouse, 308 E. 6th, Fowler, 09000030, LISTED, 2/17/09 (New Deal-Era Resources of Kansas MPS)

Riley County

Houston and Pierre Streets Residential Historic District, Bounded by S. 5th St., Pierre St., S. 9th St., and Houston St., Manhattan, 09000031, LISTED, 2/18/09 (Late 19th and Early 20th Century Residential Resources in Manhattan, Kansas MPS)

MAINE

Aroostook County

Duncan, Beecher H., Farm, 26 Shorey Rd., Westfield, 09000011, LISTED, 2/11/09

MASSACHUSETTS

Essex County

L.H. Hamel Leather Company Historic District, Bounded by Essex, Locke, Duncan, and Winter Sts., and the former Boston and Maine Railroad tracks, Haverhill, 09000032, LISTED, 2/18/09

Middlesex County

Merriam, M.H. and Company, 7-9 Oakland St., Lexington, 09000033, LISTED, 2/18/09

MISSOURI

St. Louis Independent City

Central Carondelet Historic District (Boundary Increase II), Bounded by Iron St., Minnesota, Pennsylvania, and Holly Hills Aves., St. Louis, 09000034, LISTED, 2/18/09

Dreer, Dr. Herman S., House, 4335 Cote Brilliante Ave., Saint Louis, 09000035, LISTED, 2/20/09 (The Ville, St. Louis, Missouri MPS)

Phillips, Homer G., House, 4524 Cottage Ave., St. Louis, 09000036, LISTED, 2/20/09 (The Ville, St. Louis, Missouri MPS)

NEW YORK

Cattaraugus County

House at 520 Hostageh Road, 520 Hostageh Rd., Rock City, 09000038, LISTED, 2/20/09

Chautauqua County

Dunkirk Schooner Site, Address Restricted, Dunkirk Vicinity, 65009967 *DETERMINED ELIGIBLE, 2/18/09

Erie County

Adam, J.N.—AM&A Historic District, Main St., E. Eagle St., Washington St., Ellicott St., Buffalo, 09000056, LISTED, 2/20/09

Suffolk County

Jamesport Meeting House, 1590 Main Rd., Jamesport, 09000039, LISTED, 2/20/09

Ulster County

Yeomans, Moses, House, 252-278 Delaware Ave., Kingston, 09000041, LISTED, 2/20/09

NORTH CAROLINA

Avery County

Crossnore School Historic District, Within the campus of Crossnore School, N. side of NC 1143, opposite junction with NC 1148, Crossnore, 09000059, LISTED, 2/18/09

PUERTO RICO

Coamo Municipality

Puente de las Calabazas, PR 14, km. 39.3, Cuyon Ward, Coamo vicinity, 09000042, LISTED, 2/17/09 (Historic Bridges of Puerto Rico MPS)

SOUTH DAKOTA

Custer County

Hermosa Masonic Lodge, W. side of 2nd St., between Folsom St. and Hwy 40, Hermosa, 09000043, LISTED, 2/17/09

Hutchinson County

Tucek-Sykora Farmstead, 28883 412th Ave., Tripp vicinity, 09000044, LISTED, 2/17/09 (Czech Folk Architecture in Southeastern South Dakota MRA)

VIRGINIA

Louisa County

Baker-Strickler House, 10074 W. Gordon Rd., Gordonsville, 09000046, LISTED, 2/18/09

WISCONSIN

Columbia County

Mills, Richard W. and Margaret, House, 104 Grand Ave., Lodi, 09000048, LISTED, 2/18/09

* Denotes: Federal determination of eligibility.

[FR Doc. E9-7526 Filed 4-2-09; 8:45 am]

BILLING CODE 4312-51-P